DEPARTMENT OF THE INTERIOR

Bureau of Reclamation

Upper Truckee River Restoration and Golf Course Reconfiguration Project, El Dorado County, CA

AGENCY: Bureau of Reclamation, Interior.

ACTION: Notice of availability of the Draft Environmental Impact Report/Environmental Impact Statement (EIR/EIS), and notice of public hearing.

SUMMARY: Pursuant to the National Environmental Policy Act (NEPA), the California Environmental Quality Act (CEQA), and Article VII of the Tahoe Regional Planning Compact and Chapter 5 of the Tahoe Regional Planning Agency (TRPA) Code of Ordinances, the Bureau of Reclamation (Reclamation), California Department of Parks and Recreation (State Parks), and TRPA have made available for public review and comment the draft EIR/EIS for the Upper Truckee River Restoration and Golf Course Reconfiguration Project (Project). Depending on which alternative is selected, the proposed restoration project may include continuing existing golf course use, removal of the entire Lake Tahoe Golf Course, or reconfiguration of the golf course to allow for restoration of the river, to reduce the area of Stream Environment Zone occupied by the golf course, and to allow for establishment of a buffer area between the golf course and the river.

DATES: Submit written comments on the draft EIR/EIS on or before November 4, 2010.

Two public hearings will be held on October 13 and October 27, 2010, starting at 9:30 a.m. in Stateline, Nevada, to receive oral and written comments regarding the project's environmental effects.

ADDRESSES: Send any written comments on the Draft EIR/EIS to Cyndie Walck, State of California Department of Parks and Recreation, Sierra District, P.O. Box 16, Tahoe City, CA 96145. Comments may be faxed to the State Parks office at 530-581-5849. Comments by e-mail are preferred for an electronic record. For comments provided via e-mail, please utilize the following format:

E-mail to: utproject@parks.ca.gov.

Subject Line: River-Golf Course EIR/EIS/EIS

Directions:

(1) Attach comments in an MS Word document.

(2) Include commenter's U.S. Postal Service mailing address in MS Word.

All comments will be distributed by State Parks to TRPA and Bureau of Reclamation.

The public hearings will be held at 128 Market Street, Stateline, Nevada.

The Draft EIR/EIS is accessible at the following Web sites: http://www.restoreuppertruckee.net/index.htm; http://www.parks.ca.gov/?page_id=981 (click on El Dorado County); http://www.trpa.org; http://www.usbr.gov/mp/nepa/nepa_projdetails.cfm?Project_ID=5760.

The draft EIR/EIS is available for review by the public during normal business hours at the following locations:

• State Parks' Administrative office at Sugarpine Point State Park, 7360 West Lake Boulevard, Tahoma, CA 96142.

• TRPA front desk, 128 Market Street, Stateline, NV 89449.

• Mid-Pacific Regional Library, Bureau of Reclamation, 2800 Cottage Way, Sacramento, CA 95825.

• South Lake Tahoe Library front desk, 1000 Rufus Allen Boulevard, South Lake Tahoe, CA 96150.

Hard copies can be printed for purchase at Staples, 2061 Lake Tahoe Boulevard, South Lake Tahoe, CA 96150.

CDs are also available upon request from State Parks. Please submit request to: utproject@parks.ca.gov.

FOR FURTHER INFORMATION CONTACT: Cyndie Walck, State Parks, at 530-581-0925, or Mike Elam, TRPA, and Myrnie Mayville, Reclamation, at 775-588-4547.

SUPPLEMENTARY INFORMATION: The purpose of the project is to improve geomorphic processes, ecological functions, and habitat values of the Upper Truckee River within the study area, helping to reduce the river's discharge of nutrients and sediment that diminish Lake Tahoe's clarity while providing access to public recreation opportunities in Washoe Meadows State Park (SP) and Lake Valley State Recreation Area (SRA).

The 520-acre study area is just north of Meyers and south of the City of South Lake Tahoe, within El Dorado County, California. It includes the southern portion of Washoe Meadows SP, Lake Valley SRA, and small portions of U.S. Forest Service (USFS) and California Tahoe Conservancy (Conservancy) lands, as well as a 1.5-mile reach of the Upper Truckee River.

The four action alternatives (Alternatives 2-5), and the No-Project/No-Action Alternative (Alternative 1) are analyzed in the draft EIR/EIS. For the No Project/No-Action Alternative, Alternative 1, the river restoration and changes to the golf course would not be implemented. This alternative represents a projection of reasonably foreseeable future conditions that could occur if no project actions were implemented. Alternative 2 would involve restoration of the Upper Truckee River with a reconfigured 18-hole regulation golf course. Alternative 3 would involve river restoration, providing a reduced-play golf course. Alternative 4 would use a combination of hard and soft stabilization to keep the river in its present configuration and includes only minor changes to the existing golf course. Alternative 5 would involve decommissioning and removing the 18-hole regulation golf course to restore all or a portion of the golf course landscape to meadow and riparian habitat.

Significant or Adverse Environmental Effects Anticipated

Implementing Alternative 1, the No-Project/No-Action Alternative, would not result in any changes within the study area and, therefore, not result in any significant unavoidable impacts. Project-related and cumulative effects on modifications in Upper Truckee River coarse sediment transport and delivery downstream under Alternative 1 were found to be too speculative for meaningful significance conclusions.

Implementation of Alternative 2 would require relocation of a portion of the Lake Tahoe Golf Course to allow for geomorphic restoration of the river, to reduce the area of the Stream Environment Zone occupied by the golf course, and to allow for establishment of a riparian habitat zone and buffer area between the golf course and the river. Implementing Alternative 2 would result in the following significant and unavoidable project-related and cumulative impacts: Short-term risk of surface water or groundwater degradation during construction and short-term risk of surface water or groundwater degradation following construction. In addition, the cumulative effects of Alternative 2 on modifications in Upper Truckee River coarse sediment transport and delivery downstream and operations-related green house gas (GHG) emissions were found to be too speculative for meaningful significance conclusions.

Alternative 3 would include full geomorphic and ecosystem restoration of the Upper Truckee River and provision of a reduced-play golf course. This alternative would result in the same significant and unavoidable project-related and cumulative impacts discussed above for Alternative 2 and the same cumulative effects would be too speculative for meaningful significance conclusions. In addition, Alternative 3 would have a significant unavoidable impact related to a reduction in recreation opportunities, uses, and golf- related experiences due to the reduced-play golf course. Although golfing opportunities would still exist under Alternative 3, the existing golf experience at the Lake Tahoe Golf Course would be substantially reduced. Alternative 3 would also result in an adverse economic impact on both the community of South Lake Tahoe and State Parks. This impact would not contribute to a cumulative effect on golf recreation.

Alternative 4 would use a combination of hard and soft stabilization to keep the river in its present configuration and includes only minor changes to the existing golf course. This alternative would result in the same significant and unavoidable project-related and cumulative impacts and cumulative effects that would be too speculative for meaningful consideration discussed above for Alternative 2.

Alternative 5 would involve decommissioning and removing the 18-hole regulation golf course to restore all or a portion of the golf course footprint to meadow and riparian habitat. This alternative would result in the same significant and unavoidable project-related and cumulative impacts discussed above for Alternative 3. Alternative 5 would also result in cumulative effects on modifications in Upper Truckee River coarse sediment transport and delivery downstream and operation-related GHG emissions that were found to be too speculative for meaningful consideration.

Beneficial Effects

Implementation of Alternative 1 (No-Project/No-Action) would not result in any changes within the study area; therefore, this alternative would not result in any project-related beneficial effects.

Implementing Alternative 2 would result in project-related beneficial effects on long-term increase in peak flows generated or released downstream, long-term increase in overbanking during small to moderate flood events, long-term modification of groundwater levels and flow patterns, long-term increased surface/soil erosion within the study area, fine sediment and nutrient retention within the study area, long-term changes to fish and aquatic habitat, long-term effects on sensitive habitats and special-status plant species, effects on potential wildlife movement corridors, and land coverage changes. Alternative 2 would also result in the following cumulative beneficial effects: Long-term modified groundwater levels and flow patterns, long-term stream channel erosion, long-term fine sediment and nutrient retention, long-term effects on fisheries and aquatic resources, effects on special-status plants and sensitive habitats, effects on common or special-status wildlife resources. Implementing Alternative 2 would assist in the long-term productivity of the Lake Tahoe Golf Course while restoring the river and reducing sediment delivery to the lake, which would help to sustain and support the social and economic health of the South Lake Tahoe area by providing an improved 18-hole regulation golf course. The golf course would support seasonal tourism in the South Lake Tahoe area, which would provide an economic benefit to the Lake Tahoe business community and foster employee retention.

Alternative 3 would result in the same project-related and cumulative beneficial effects as discussed above for Alternative 2 except for long-term increased surface/soil erosion within the study area. In addition, Alternative 3 would result in a beneficial effect on long-term increase in stormwater runoff volumes, long-term reduction of irrigation water demand, and long-term effects on special-status and common wildlife species and habitats. Alternative 3 would not include the same social and economic benefits found under Alternative 2.

Implementation of Alternative 4 would result in project-related and cumulative beneficial effects on long-term changes to fish and aquatic habitat, long-term effects on sensitive habitats and special-status plant species, long-term effects on special-status and common wildlife species and habitats, and potential wildlife movement corridors.

Alternative 5 would result in the same project-related and cumulative beneficial effects as discussed above for Alternative 3.

The draft EIR/EIS is being distributed to interested agencies, stakeholder organizations, and individuals. This distribution ensures that interested parties have an opportunity to express their views regarding the environmental effects of the project, and to ensure that information pertinent to permits and approvals is provided to decision makers for the lead agencies, CEQA, NEPA, and TRPA responsible agencies.

Hearing Process and Distribution Information

A public hearing on the draft EIR/EIS will be conducted by State Parks, Reclamation, and TRPA. It is not necessary to provide testimony during the public hearing; comments on the draft EIR/EIS will be accepted throughout the meeting and will be recorded at the public comment table. Comments may also be submitted throughout the comment period as described above. Once all comments have been assembled and reviewed, responses will be prepared to address significant environmental issues that have been raised in the comments.

Special Assistance for the Public Hearing

If special assistance is required to participate in the public hearing, please contact Myrnie Mayville at 775-589-5240, TDD 916-978-5608, or via e-mail at mmayville@usbr.gov. Please notify Ms. Mayville as far in advance as possible to enable Reclamation to secure the needed services. If a request cannot be honored, the requestor will be notified. A telephone device for the hearing impaired (TDD) is available at 916-978-5608.

Public Disclosure

Before including your name, address, phone number, e-mail address, or other personal identifying information in any correspondence, you should be aware that your entire correspondence—including your personal identifying information—may be made publicly available at any time. While you may ask us in your correspondence to withhold your personal identifying information from public review, we cannot guarantee that we will be able to do so.

Dated: July 14, 2010.
Pablo R. Arroyave,
Deputy Regional Director, Mid-Pacific Region.

[FR Doc. 2010-21141 Filed 8-24-10; 8:45 am]

BILLING CODE 4310-MN-P